DEPARTMENT OF TRANSPORTATION

Federal Aviation Administration

Notice of Passenger Facility Charge (PFC) Approvals and Disapprovals

AGENCY: Federal Aviation Administration (FAA), DOT.

ACTION: Monthly Notice of PFC Approvals and Disapprovals. In July 2002, there were 11 applications approved. Additionally, four approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph (d) of § 158.29.

PFC Applications Approved

Public Agency: Asheville Regional Airport Authority, Asheville, North Carolina.

Application Number: 02-02-C-00-AVL.

Application Type: Impose and use a PFC.

PFC Level: $4.50.

Total PFC Revenue Approved in This Decision: $4,977,794.

Earliest Charge Effective Date: October 1, 2002.

Estimated Charge Expiration Date: November 1, 2006.

Class of Air Carriers Not Required To Collect PFC's: Air taxi/commercial operators filing FAA Form 1800-31.

Determination: Approved. Based on information contained in the public agency's application, the FAA has determined that the approved class accounts for less than 1 percent of the total annual enplanements at Asheville Regional Airport.

Brief Description of Projects Approved for Collection and Use:

Install fire alarm system.

Flight information display.

Construct runway safety area, runway 16, phase I.

Construct runway safety area, runway 16, phase II.

Rehabilitate terminal sidewalks.

Modify access road.

Construct perimeter security road.

Construct aircraft rescue and firefighting road.

Install perimeter fencing.

Construct runway safety area, runway 16, phase III.

Replace terminal roof.

Install emergency generators.

Replace chiller.

Update master plan.

Install baggage belt.

Modify loading bridge.

Construct baggage facility.

Rehabilitate runway lights.

Improve runway/taxiway safety area.

Expand baggage claim.

Expand holding room.

Install new airfield lighting vault.

Expand general aviation ramp.

Rehabilitate runway and taxiway.

Acquire passenger lift device.

Install runway lighting.

Rehabilitate taxiway lights.

Install sprinkler system.

Modify terminal.

Construct north access road.

Construct perimeter security road, phase II.

Security enhancements.

PFC administrative costs.

Brief Description of Disapproved Project: Acquire emergency response trailer.

Determination: Disapproved. The FAA has determined that the acquisition of this trailer is not a requirement of Part 139. In addition, there does not appear to be any special situation or mitigating circumstance at this airport that would meet the basic criteria for expanded eligibility of equipment to meet a particular safety requirement at this airport.

Decision Date: July 5, 2002.

FOR FURTHER INFORMATION CONTACT: Tracie D. Kleine, Atlanta Airports District Office, (404) 305-7148.

Public Agency: Metropolitan Washington Airports Authority, Alexandria, Virginia.

Application Number: 02-05-C-00-DCA.

Application Type: Impose and use a PFC.

PFC Level: $4.50.

Total PFC Revenue Approved in this Decision: $33,895,949.

Earliest Charge Effective Date: September 1, 2006.

Estimated Charge Expiration Date: November 1, 2007.

Class of Air Carriers Not Required to Collect PFC's: Part 135 nonscheduled/on demand air carriers filing FAA Form 1800-31.

Determination: Approved. Based on information contained in the public agency's application, the FAA has determined that the approved class accounts for less than 1 percent of the total annual enplanements at Ronald Reagan Washington National Airport (DCA).

Brief Description of Projects Approved for Collection at DCA at a $4.50 PFC Level and Use at Washington Dulles International Airport:

Taxiway F.

Taxiway J. extension.

Decision date: July 8, 2002.

FOR FURTHER INFORMATION CONTACT: Eleanor Schifflin, Eastern Region Airports Division, (718) 553-3354.

Public Agency: Milwaukee County, Milwaukee, Wisconsin.

Application Number: 02-07-C-00-MKE.

Application Type: Impose and use a PFC.

PFC Level: $3.00.

Total PFC Revenue Approved in This Decision: $38,715,244.

Earliest Charge Effective Date: December 1, 2011.

Estimated Charge Expiration Date: May 1, 2015.

Class of Air Carriers Not Required To Collect PFC's: Air taxi/commercial operators filing FAA Form 1800-31.

Determination: Approved. Based on information contained in the public agency's application, the FAA has determined that the approved class accounts for less than 1 percent of the total annual enplanements at General Mitchell International Airport (MKE).

Brief Description of Projects Approved for Collection at MKE and Use at MKE:

C Concourse hydrant fueling system.

7R/25L edge lights.

Electrical system upgrade—airfield.

Ground run-up enclosure construction.

Corporate hangar road reconstruction.

Relight terminal roadway.

Elevator controls upgrade.

PFC administrative costs.

D concourse expansion.

Taxiway B-C.

North ticketing expansion.

Airport security improvements.

Part 150 update.

Renovate road to south maintenance shop area.

Separate taxiway circuits and add duct banks.

Brief Description of Project Approved for Collection at MKE and Use at Lawrence J. Timmerman Airport: Rehabilitate runway and taxiway.

Brief Description of Projects Approved for Collection at MKE:

International arrivals building ramp expansion.

Outer taxiway extension.

Decision Date: July 9, 2002.

FOR FURTHER INFORMATION CONTACT: Sandra E. DePottey, Minneapolis Airports District Office, (612) 713-4363.

Public Agency: Sacramento County Department of Airports, Sacramento, California.

Application Number: 02-07-C-00-SMF.

Application Type: Impose and use a PFC.

PFC Level: $4.50.

Total PFC Revenue Approved in This Decision: $11,141,350.

Earliest Charge Effective Date: November 1, 2013.

Estimated Charge Expiration date: March 1, 2014.

Class of Air Carriers Not Required To Collect PFC's: None.

Brief Description of Projects Approved for Collection and Use at a $4.50 PFC Level:

Closed circuit television camera and video cassette recorder.

Card access system replacement.

Taxiway A replacement.

Aircraft rescue and firefighting vehicle replacement.

Runway 16R/34L and exit taxiways rehabilitation.

Terminal A apron, phase 2.

Aircraft rescue and firefighting building remodel.

Cargo building pavement reconstruction.

Brief Description of Project Approved for Collection and Use at a $3.00 PFC Level: International arrival facility.

Decision Date: July 15, 2002.

FOR FURTHER INFORMATION CONTACT: Marlys Vandervelde, San Francisco Airports District Office, (650) 876-2806.

Public Agency: City of Columbia, Missouri.

Application Number: 02-01-C-00-COU.

Application Type: Impose and use a PFC.

PFC Level: $4.50.

Total PFC Revenue Approved in This Decision: $1,363,932.

Earliest Charge Effective Date: November 1, 2002.

Estimated Charge Expiration Date: October 1, 2012.

Class of Air Carriers Not Required To Collect PFC's: None.

Brief Description of Projects Approved for Collection and Use:

Acquisition of rapid intervention vehicle.

Phases I and II resurfacing of general aviation apron, purchase of snowblower, and aircraft ramp and airport access road lighting.

Runway 13/31 asphalt overlay and Gate 5 relocation.

Overlay airport access road and terminal loop, construct snow removal equipment building addition, and construct taxiway C and apron underdrain.

Fence replacement, computer access gates, and standby electrical power.

Phase I air carrier apron extension and consultant services.

Phase II of air carrier apron south extension and front end loader.

Phase I of commercial apron expansion and modify Gate 9.

Rehabilitation of north cargo apron.

Master plan update.

Repair runway 2/20 pavement, remark airfield, upgrade runway 2/20 north safety area, and replace underground lighting control cables.

Phase II of commercial apron expansion.

Reimbursement for land acquisition.

Preliminary terminal study.

Environmental assessment.

Brief Description of Projects Approved for Collection:

Replacement of snow plow/spreader truck.

Cargo apron south addition.

Upgrade runway 13/31.

Preliminary terminal upgrade design.

Decision Date: July 16, 2002.

FOR FURTHER INFORMATION CONTACT: Lorna Sandridge, Central Region Airports Division, (816) 329-2641.

Public Agency: County of Pitkin, Aspen, Colorado.

Application Number: 02-04-C-00-ASE.

Application Type: Impose and use a PFC.

PFC Level: $4.50.

Total PFC Revenue Approved in This Decision: $986,381.

Earliest Charge Effective Date: May 1, 2003.

Estimated Charge Expiration Date: August 1, 2004.

Class of Air Carriers Not Required To Collect PFC's: Air taxi/commercial operators filing FAA Form 1800-31.

Determination: Approved. Based on information contained in the public agency's application, the FAA has determined that the proposed class accounts for less than 1 percent of the total annual enplanements at Aspen-Pitken County Airport.

Brief Description of projects Approved for Collection and Use:

Master plan.

East side infrastructure development planning and design.

Relocation/rehabilitation of north general aviation apron.

Construct of aircraft parking apron.

Replace runway lighting and install runway end identifier lights on runway 33.

Replace wildlife fence.

Installation of medium intensity approach lighting system.

Decision Date: July 18, 2002.

FOR FURTHER INFORMATION CONTACT: Christopher J. Schaffer, Denver Airport District Office, (303) 342-1258.

Public Agency: Walker Field Airport Authority, Grand Junction, Colorado.

Application Number: 02-05-U-00-GJT.

Application Type: Use PFC revenue.

PFC Level: $3.00.

Total PFC Revenue To Be Used in This Decision: $1,480,000.

Charge Effective Date: April 1, 2003.

Charge Expiration Date: July 1, 2007.

Class of Air Carriers Not Required To Collect PFC's: No change from previous decision.

Brief Description of Project Approved for Use: Expand terminal building boarding area/concourse/loading bridges.

Decision Date: July 24, 2002.

FOR FURTHER INFORMATION CONTACT: Chris Schaffer, Denver Airports District Office, (303) 342-1258.

Public Agency: City of Tallahassee, Florida.

Application Number: 02-04-C-00-TLH.

Application Type: Impose and use a PFC.

PFC Level: $4.50

Total PFC Revenue Approved in This Decision: $10,063,307.

Earliest Charge Effective Date: October 1, 2002.

Estimated Charge Expiration Date: October 1, 2007.

Class of Air Carriers Not Required To Collect PFC's: Part 135 air taxi/commercial operators filing FAA Form 1800-31.

Determination: Approved. Based on information contained in the public agency's application, the FAA has determined that the proposed class accounts for less than 1 percent of the total annual enplanements at Tallahassee Regional Airport.

Brief Description of Projects Approved for Collection and Use:

Terminal second floor access.

Integrated communication system.

Airport layout plan update.

Security system upgrade.

Former landfill remediation.

Air carrier taxiway rehabilitation.

Terminal apron security fencing.

Runway 9/27 safety area improvements.

Master plan update.

Passenger loading bridges.

Terminal improvement program.

Runway 18/36 safety area improvements.

Terminal apron rehabilitation.

Taxiway J extension.

Sinkhole stabilization and taxiway repair.

Airside perimeter/service road.

Security fencing and gate improvements.

Taxiway J rehabilitation and widening.

Electrical vault upgrade.

Runway 9/27 lighting improvements.

General aviation access taxiway R construction.

Air cargo apron expansion.

Runway 18/36 shoulder improvements.

Security closed circuit television camera rehabilitation and improvements.

Terminal access road.

North apron overlay.

Brief Description of Projects Approved for Collection:

Terminal security improvements.

Crisis command/communications center.

Taxiway N rehabilitation.

Taxiway P rehabilitation.

General aviation taxiway overlays.

Interactive training system improvements.

New general aviation central apron construction.

General aviation south apron rehabilitation.

Construct taxiway X.

Terminal apron lighting improvements.

Old terminal apron rehabilitation.

Americans with Disabilities Act passenger lift.

Taxiway S extension.

Airport storm water drainage improvements.

General aviation apron lights.

Brief Description of Disapproved Project: Automated vehicle identification system.

Determination: Disapproved. The FAA has determined that this project appears to exceed known Federal security requirements. The information provided in the application was not sufficient to allow the FAA to determine that this project was eligible.

Brief Description of Withdrawn Project: Instrument landing system/global positioning system installation.

Determination: This project was withdrawn by the public agency by letter dated May 13, 2002. Therefore, the FAA did not rule on this project in this record.

Decision Date: July 25, 2002.

FOR FURTHER INFORMATION CONTACT: Bill Farris, Orlando Airports District Office, (407) 812-6331.

Public Agency: Kenton County Airport Board, Covington, Kentucky.

Application Number: 02-08-C-00-CVG.

Application Type: Impose and use a PFC.

PFC Level: $4.50.

Total PFC Revenue Approved in This Decision: $259,789,000.

Earliest Charge Effective Date: August 1, 2003.

Estimated Charge Expiration Date: July 1, 2008.

Classes of Air Carriers Not Required To Collect PFC's:

(1) Part 121 supplemental operators which operate at the airport without an operating agreement with the public agency and enplane less than 1,500 passengers per year; and (2) Part 135 on-demand air taxis, both fixed wing and rotary.

Determination: Approved. Based on information contained in the public agency's application, the FAA has determined that each proposed class accounts for less than 1 percent of the total annual enplanements at Cincinnati/Northern Kentucky International Airport.

Brief Description of Project Approved for Collection and Use at a $4.50 PFC Level: Runway 17/35 (future 18R/36L).

Brief Description of Projects Approved for Collection and Use at a $3.00 PFC Level:

Deicing system enhancements—storm water treatment system, Gunpowder Creek.

Concourse C improvements—flight information display system replacement.

Terminal area blast analysis.

Airport security master plan.

Extend runway 9/27 phase 2—1,000 feet.

Brief Description of Project Partially Approved for Collection and Use at a $3.00 PFC Level: Noise compatibility program measures.

Determination: Partially approved. The portion of the project described as “ANAV Flight Procedures Development and Ground Station Design” is not Airport Improvement Program (AIP) eligible in accordance with paragraph 557(a) of FAA Order 5100.38B, AIP Handbook (May 31, 2002).

Brief Description of Withdrawn Project: KR 212 interchange improvements.

Determination: This project was withdrawn by the public agency by letter dated July 19, 2002. Therefore, the FAA did not rule on this project in this record.

Decision Date: July 26, 2002.

FOR FURTHER INFORMATION CONTACT: Jerry O. Bowers, Memphis Airports District Office, (901) 544-3495.

Public Agency: Port of Bellingham, Bellingham, Washington.

Application Number: 02-05-C-00-BLI.

Application Type: Impose and use a PFC.

PFC Level: $4.50.

Total PFC Revenue Approved in This Decision: $930,653.

Earliest Charge Effective Date: June 1, 2003.

Estimated Charge Expiration Date: January 1, 2007.

Class of Air Carriers Not Required To Collect PFC's: Non-scheduled air taxi/commercial operators utilizing aircraft having a seating capacity of less than 20 passengers.

Determination: Approved. Based on information contained in the public agency's application, the FAA has determined that the proposed class accounts for less than 1 percent of the total annual enplanements at Bellingham International Airport.

Brief Description of Projects Approved for Collection and Use:

Extension of runway 16/34, new high intensity runway lighting system, extension of taxiway lighting, wetlands mitigation.

Airport sign system.

Master Plan.

Construct and rehabilitate aircraft apron.

Acquisition of snow removal equipment.

Construct snow removal equipment building.

Upgrades on security gates, installation of wildlife fencing.

Reconstruct and rehabilitate taxiway D.

Construct/reconstruct terminal apron.

Construct deicing facility.

Acquisition of passenger lift device.

Master plan.

Acquire aircraft rescue and firefighting vehicle.

Decision Date: July 25, 2002.

FOR FURTHER INFORMATION CONTACT: Suzanne Lee-Pang, Seattle Airports District Office, (425) 227-2654.

Public Agency: Marquette County, Gwinn, Michigan.

Application Number: 02-06-C-00-SAW.

Application Type: Impose and use a PFC.

PCF Level: $4.50.

Total PCF Revenue Approved in this Decision: $227,558.

Earliest Charge Effective Date: December 1, 2002.

Estimated Charge Expiration Date: May 1, 2004.

Class of Air Carriers Not Required To Collect PFC's: None.

Brief Description of Projects Approved for Collection and Use:

Construct north access road.

Taxiway rehabilitation.

Passenger boarding bridges.

Snow removal equipment.

Runway pavement rehabilitation.

Taxiway signage.

Refurbish beacon.

Decision Date: July 31, 2002.

FOR FURTHER INFORMATION CONTACT: Arlene B. Draper, Detroit Airports District Office, (734) 487-7282.

Amendments to PFC Approvals:

Amendment No. City, State | Amendment approved date | Original approved net PFC revenue | Amended approved net PFC revenue | Original estimated charge exp. date | Amended estimated charge exp. date
93-01-C-02-BZN, Bozeman, MT | 06/28/02 | $4,827,700 | $5,277,700 | 01/01/03 | 05/01/03
93-01-C-03-PLB, Plattsburgh, NY | 07/08/02 | 123,980 | 121,502 | 02/01/99 | 11/01/96
01-03-C-01-LIT, Little Rock, AR | 07/17/02 | 15,986,750 | 15,986,750 | 05/01/04 | 05/01/04
00-03-C-02-MSO, Missoula, MT | 07/17/02 | 1,500,000 | 2,500,000 | 02/01/04 | 02/01/05

Issued in Washington, DC on September 30, 2002.
Barry Molar,
Manager, Airports Financial Assistance Division.

[FR Doc. 02-25473 Filed 10-4-02; 8:45 am]

BILLING CODE 4910-13-M